NUCLEAR REGULATORY COMMISSION

10 CFR Part 2

[NRC-2018-0048]

RIN 3150-AK11

Adjustment of Civil Penalties for Inflation for Fiscal Year 2020; Correction

AGENCY: Nuclear Regulatory Commission.

ACTION: Final rule; correcting amendment.

SUMMARY: The U.S. Nuclear Regulatory Commission (NRC) is correcting a final rule that appeared in the Federal Register on January 15, 2020, that amended its regulations to adjust the maximum civil monetary penalties it can assess under statutes enforced by the agency. These changes are mandated by the Federal Civil Penalties Inflation Adjustment Act of 1990, as amended by the Federal Civil Penalties Inflation Adjustment Act Improvements Act of 2015. This document corrects the final rule to provide the correct maximum civil monetary penalty, per day, for a violation of the Atomic Energy Act of 1954, as amended, or any regulation or order issued under the Atomic Energy Act.

DATES: Effective on February 20, 2020.

FOR FURTHER INFORMATION CONTACT: Eric Michel, Office of the General Counsel, U.S. Nuclear Regulatory Commission, Washington, DC 20555-0001, telephone: 301-415-0932; email: Eric.Michel2@nrc.gov.

SUPPLEMENTARY INFORMATION: This document corrects the final rule that was published in the Federal Register on Wednesday, January 15, 2020 (85 FR 2281), to provide the correct maximum civil monetary penalty, per day, for a violation of the Atomic Energy Act of 1954, as amended, or any regulation or order issued under the Atomic Energy Act. As previously stated in the January 15 final rule, agency rules that implement the Federal Civil Penalties Inflation Adjustment Act Improvements Act of 2015 are expressly exempt from the notice and comment requirements of the Administrative Procedure Act (Pub. L. 114-74, 129 Stat. 599; 28 U.S.C. 2461 note). As such, this corrective rulemaking is being issued without prior public notice or opportunity for public comment, with an effective date of February 20, 2020.

For the reasons set out in the preamble and under the authority of the Atomic Energy Act of 1954, as amended; the Energy Reorganization Act of 1974, as amended; and 5 U.S.C. 552 and 553, the NRC is adopting the following amendment to 10 CFR part 2:

List of Subjects in 10 CFR Part 2

Administrative practice and procedure, Antitrust, Byproduct material, Classified information, Confidential business information, Environmental protection, Freedom of information, Hazardous waste, Nuclear energy, Nuclear materials, Nuclear power plants and reactors, Penalties, Reporting and recordkeeping requirements, Sex discrimination, Source material, Special nuclear material, Waste treatment and disposal.

Accordingly, 10 CFR part 2 is corrected by making the following correcting amendments:

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

§ 2.205 [Amended]

2. In § 2.205(j), remove the amount “$303.471” and add in its place “$303,471”.

Dated at Rockville, Maryland, this 5th day of February, 2020.
For the Nuclear Regulatory Commission.
Cindy Bladey,
Chief, Regulatory Analysis and Rulemaking Support, Division of Rulemaking, Environmental, and Financial Support, Office of Nuclear Material Safety and Safeguards.

[FR Doc. 2020-02548 Filed 2-19-20; 8:45 am]

BILLING CODE 7590-01-P